DEPARTMENT OF TRANSPORTATION

Federal Aviation Administration

14 CFR Part 39

[Docket No. FAA-2017-1063; Product Identifier 2017-SW-088-AD; Amendment 39-19291; AD 2018-11-03]

RIN 2120-AA64

Airworthiness Directives; Airbus Helicopters

AGENCY: Federal Aviation Administration (FAA), Department of Transportation (DOT).

ACTION: Final rule; request for comments.

SUMMARY: We are adopting a new airworthiness directive (AD) Airbus Helicopters Model SA-365C, SA-365C1, and SA-365C2 helicopters. This AD requires establishing a life limit of 2,000 hours time-in-service (TIS) for the Starflex star/mast connecting bolt (bolt) and removing from service each bolt that exceeds its life limit. This AD is prompted by the discovery that the bolt's life limit was not included in helicopter maintenance records. The actions of this AD are intended to prevent an unsafe condition on these products.

DATES: This AD becomes effective June 18, 2018.

We must receive comments on this AD by July 31, 2018.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE, Washington, DC 20590-0001.

• Hand Delivery: Deliver to the “Mail” address between 9 a.m. and 5 p.m., Monday through Friday, except Federal holidays.

Examining the AD Docket

You may examine the AD docket on the internet at http://www.regulations.gov by searching for and locating Docket No. FAA-2017-1063; or in person at Docket Operations between 9 a.m. and 5 p.m., Monday through Friday, except Federal holidays. The AD docket contains this AD, the European Aviation Safety Agency (EASA) AD, any comments received, and other information. The street address for Docket Operations Office (telephone 800-647-5527) is in the ADDRESSES section. Comments will be available in the AD docket shortly after receipt.

For service information identified in this final rule, contact Airbus Helicopters, 2701 N. Forum Drive, Grand Prairie, TX 75052; telephone (972) 641-0000 or (800) 232-0323; fax (972) 641-3775; or at http://www.helicopters.airbus.com/website/en/ref/Technical-Support_73.html. You may review the referenced service information at the FAA, Office of the Regional Counsel, Southwest Region, 10101 Hillwood Pkwy, Room 6N-321, Fort Worth, TX 76177.

FOR FURTHER INFORMATION CONTACT: Matt Fuller, Senior Aviation Safety Engineer, Safety Management Section, Rotorcraft Standards Branch, FAA, 10101 Hillwood Pkwy., Fort Worth, TX 76177; telephone (817) 222-5110; email matthew.fuller@faa.gov.

SUPPLEMENTARY INFORMATION:

Comments Invited

This AD is a final rule that involves requirements affecting flight safety, and we did not provide you with notice and an opportunity to provide your comments prior to it becoming effective. However, we invite you to participate in this rulemaking by submitting written comments, data, or views. We also invite comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. We will file in the docket all comments that we receive, as well as a report summarizing each substantive public contact with FAA personnel concerning this rulemaking during the comment period. We will consider all the comments we receive and may conduct additional rulemaking based on those comments.

Discussion

EASA, which is the Technical Agent for the Member States of the European Union, has issued EASA AD No. 2016-0115-E, dated June 16, 2016, to correct an unsafe condition for Airbus Helicopters Model SA-365C, SA-365C1, SA-365C2, and SA-365C3 helicopters. EASA advises that the 2,000 flight hour life limit for the bolts was not referenced in the helicopter maintenance documentation. EASA states that some helicopters are therefore likely to continue flying with these bolts past their life limit. This condition, if not detected and corrected, could lead to bolt failure, resulting in main rotor mast, hub or blade damage and reduced helicopter control, EASA advises. As a result, the EASA AD requires replacing the bolts if they have reached or exceeded 2,000 flight hours, if the bolt part number (P/N) cannot be identified, or if the number of flight hours of the bolt is not known. The EASA AD also requires maintaining the continuous airworthiness records for the bolts.

FAA's Determination

These helicopters have been approved by the aviation authority of France and are approved for operation in the United States. Pursuant to our bilateral agreement with France, EASA, its technical representative, has notified us of the unsafe condition described in the EASA AD. We are issuing this AD because we evaluated all information provided by EASA and determined the unsafe condition exists and is likely to exist or develop on other helicopters of these same type designs.

Related Service Information

Airbus Helicopters has issued Emergency Alert Service Bulletin No. SA365 65.51, Revision 0, dated June 2, 2016. This service information establishes a life limit of 2,000 flight hours for certain bolts installed on Airbus Helicopters Model SA-365C, SA-365C1, SA-365C2, and SA-365C3 helicopters and specifies replacing the bolts if necessary.

AD Requirements

This AD requires the following before further flight:

• Removing from service any bolt P/N 365A31-1182-20, 365A31-1182-21, 365A31-1183-20, 365A31-1183-21, 365A31-1928-20, or 365A31-1143-20 that has accumulated 2,000 or more hours TIS or any bolt for which the hours TIS is unknown. Thereafter, removing from service each bolt P/N 365A31-1182-20, 365A31-1182-21, 365A31-1183-20, 365A31-1183-21, 365A31-1928-20, or 365A31-1143-20 before it accumulates 2,000 hours TIS.

• Removing from service any bolt with a P/N not listed in the AD or any bolt for which you cannot determine the P/N.

• Creating a component history card or equivalent record for each bolt P/N 365A31-1182-20, 365A31-1182-21, 365A31-1183-20, 365A31-1183-21, 365A31-1928-20, or 365A31-1143-20 and recording a life limit of 2,000 hours TIS.

Differences Between This AD and the EASA AD

The EASA AD applies to Airbus Helicopters Model SA-365C3 helicopters. This AD does not because the SA-365C3 helicopter has no FAA type certificate.

Costs of Compliance

There are no costs of compliance with this AD because there are no helicopters with this type certificate on the U.S. Registry.

FAA's Justification and Determination of the Effective Date

There are no helicopters with this type certificate on the U.S. Registry. We believe it is therefore unlikely that we will receive any adverse comments or useful information about this AD from U.S. operators.

Therefore, we find good cause that notice and opportunity for prior public comment are unnecessary. In addition, for the reasons stated above, we find that good cause exists for making this amendment effective in less than 30 days.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866;

2. Is not a “significant rule” under DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-11-03 Airbus Helicopters: Amendment 39-19291; Docket No. FAA-2017-1063; Product Identifier 2017-SW-088-AD.

(a) Applicability

This AD applies to Airbus Helicopters Model SA-365C, SA-365C1, and SA-365C2 helicopters, certificated in any category.

(b) Unsafe Condition

This AD defines the unsafe condition as a Starflex star/mast connecting bolt (bolt) remaining in service beyond its fatigue life. This condition could result in failure of a bolt, leading to failure of the main rotor blade mast, hub, or blade and subsequent loss of control of the helicopter.

(c) Effective Date

This AD becomes effective June 18, 2018.

(d) Compliance

You are responsible for performing each action required by this AD within the specified compliance time unless it has already been accomplished prior to that time.

(e) Required Actions

Before further flight:

(1) Remove from service any bolt part number (P/N) 365A31-1182-20, 365A31-1182-21, 365A31-1183-20, 365A31-1183-21, 365A31-1928-20, or 365A31-1143-20 that has accumulated 2,000 or more hours time-in-service (TIS), or any bolt for which the hours TIS is unknown. Thereafter, remove from service each bolt P/N 365A31-1182-20, 365A31-1182-21, 365A31-1183-20, 365A31-1183-21, 365A31-1928-20, or 365A31-1143-20 before accumulating 2,000 hours TIS.

(2) Remove from service any bolt with a P/N not listed in paragraph (e)(1) of this AD or for which the P/N is unknown.

(3) Create a component history card or equivalent record for each bolt P/N 365A31-1182-20, 365A31-1182-21, 365A31-1183-20, 365A31-1183-21, 365A31-1928-20, and 365A31-1143-20 and record a life limit of 2,000 hours TIS.

(f) Alternative Methods of Compliance (AMOCs)

(1) The Manager, Safety Management Section, Rotorcraft Standards Branch, FAA, may approve AMOCs for this AD. Send your proposal to: Matt Fuller, Senior Aviation Safety Engineer, Safety Management Section, Rotorcraft Standards Branch, FAA, 10101 Hillwood Pkwy., Fort Worth, TX 76177; telephone (817) 222-5110; email 9-ASW-FTW-AMOC-Requests@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

(1) Airbus Helicopters Emergency Alert Service Bulletin No. 65.51, Revision 0, dated June 2, 2016, which is not incorporated by reference, contains additional information about the subject of this AD. For service information identified in this AD, contact Airbus Helicopters, 2701 N. Forum Drive, Grand Prairie, TX 75052; telephone (972) 641-0000 or (800) 232-0323; fax (972) 641-3775; or at http://www.helicopters.airbus.com/website/en/ref/Technical-Support_73.html. You may review a copy of the service information at the FAA, Office of the Regional Counsel, Southwest Region, 10101 Hillwood Pkwy., Room 6N-321, Fort Worth, TX 76177.

(2) The subject of this AD is addressed in European Aviation Safety Agency (EASA) AD No. 2016-0115-E, dated June 16, 2016. You may view the EASA AD on the internet at http://www.regulations.gov by searching for and locating it in Docket No. FAA-2017-1063.

(h) Subject

Joint Aircraft Service Component (JASC) Code: 6220, Main Rotor Head.

Issued in Fort Worth, Texas, on May 16, 2018.
Scott A. Horn,
Deputy Director for Regulatory Operations, Compliance & Airworthiness Division, Aircraft Certification Service.

[FR Doc. 2018-11446 Filed 5-31-18; 8:45 am]

BILLING CODE 4910-13-P